DEPARTMENT OF ENERGY

Biomass Research and Development Technical Advisory Committee

AGENCY: Office of Energy Efficiency and Renewable Energy, Department of Energy.

ACTION: Notice of Open Meeting.

SUMMARY: This notice announces an open meeting of the Biomass Research and Development Technical Advisory Committee. The Federal Advisory Committee Act requires that agencies publish these notices in the Federal Register to allow for public participation.

DATES: March 24, 2020; 8:00 a.m.-5:00 p.m.

March 25, 2020; 1:00 p.m.-4:30 p.m.

ADDRESSES: DoubleTree by Hilton Washington DC—Crystal City, 300 Army Navy Drive, Arlington, VA 22202.

FOR FURTHER INFORMATION CONTACT: Dr. Ian Rowe, Designated Federal Official for the Committee, Office of Energy Efficiency and Renewable Energy, U.S. Department of Energy, 1000 Independence Avenue SW, Washington, DC 20585; at (202) 586-7720 or email: Ian.Rowe@ee.doe.gov.

SUPPLEMENTARY INFORMATION:

Purpose of Meeting: To develop advice and guidance that promotes research and development leading to the production of biobased fuels and biobased products.

Tentative Agenda:

• Update on USDA Biomass R&D Activities

• Update on DOE Biomass R&D Activities

• Presentations from government and industry that provide insights on sustainable aviation fuels.

Public Participation: In keeping with procedures, members of the public are welcome to observe the business of the Biomass Research and Development Technical Advisory Committee. To attend the meeting and/or to make oral statements regarding any of the items on the agenda, you must contact Dr. Ian Rowe at (202) 586-7720 or email: Ian.Rowe@ee.doe.gov at least 5 business days prior to the meeting. Members of the public will be heard in the order in which they sign up at the beginning of the meeting. Reasonable provision will be made to include the scheduled oral statements on the agenda. The Co-chairs of the Committee will make every effort to hear the views of all interested parties. If you would like to file a written statement with the Committee, you may do so either before or after the meeting. The Co-chairs will conduct the meeting to facilitate the orderly conduct of business.

Minutes: The summary of the meeting will be available for public review and copying at http://biomassboard.gov/committee/meetings.html.

Signed in Washington, DC, on February 25, 2020.
LaTanya Butler,
Deputy Committee Management Officer.

[FR Doc. 2020-04206 Filed 2-28-20; 8:45 am]

BILLING CODE 6450-01-P